DEPARTMENT OF TRANSPORTATION

Federal Highway Administration

Notice To Rescind a Notice of Intent for an Environmental Impact Statement: Dane County, Wisconsin

AGENCY: Federal Highway Administration (FHWA), DOT.

ACTION: Notice to Rescind a Notice of Intent for an Environmental Impact Statement.

SUMMARY: The FHWA is issuing this notice to advise the public that FHWA and Wisconsin Department of Transportation (WisDOT) will no longer prepare a Tier 1 EIS for the US 51 corridor in Dane County, Wisconsin generally between Interstate 39/90 east of the City of Stoughton and US 12/18 (Madison South Beltline Highway) because funding to complete improvements to be considered would not be available in the foreseeable future.

FOR FURTHER INFORMATION CONTACT: Anna Varney, Major Projects Engineer, Federal Highway Administration, 525 Junction Road, Suite 8000, Madison, Wisconsin, 53717-2157, Telephone: (608) 829-7514. You may also contact Steve Krebs, Director, Bureau of Technical Services, Wisconsin Department of Transportation, P.O. Box 7965, Madison, Wisconsin 53707-7965, Telephone: (608) 246- 7930.

SUPPLEMENTARY INFORMATION: A Notice of Intent (NOI) to prepare an Environmental Impact Statement (EIS) was published in 77 FR 5087, Feb. 1, 2012 for proposed transportation improvements in the United States Highway (US) 51 corridor in Dane County, Wisconsin generally between Interstate 39/90 east of the City of Stoughton and US 12/18 (Madison South Beltline Highway). A revised NOI was published in 80 FR 19111, Apr. 9, 2015 to advise that the environmental review process was being changed to a tiered process in which a Tier 1 EIS would be prepared to evaluate potential corridors for a future project-specific alignment.

A needs assessment was conducted for the project corridor in 2004 followed by initiation of the environmental review process for an EIS. The EIS review process examined factors contributing to the need for improvements within the U.S. 51 study corridor (long-term planning and corridor preservation, safety, roadway deficiencies, bike and pedestrian accommodations, and travel demand and capacity). Based on statewide transportation priorities, it was determined a commitment to improvements that address all of the need factors could not be made and the environmental review process was converted from a standard EIS to a Tier 1 EIS. FHWA, in cooperation with WisDOT, planned to prepare a Tier 1 EIS for proposed improvements to address safety, operational and capacity concerns on approximately 18 miles of U.S. 51 between Interstate 39/90, east of the City of Stoughton, to U.S. 12/18 (Madison South Beltline Highway).

The federal fiscal constraint requirement applied to WisDOT environmental studies requires that funding be identified for the next major project action to advance the project within a reasonable timeframe. Based on statewide priorities, it was determined that the U.S. 51 corridor alternatives proposed in the DEIS would not receive funding for the next major action to advance the project. It is anticipated 30+ years might elapse before improvements recommended in a Tier 1 EIS might align with funding. As such, the preparation of the EIS for the U.S. 51 corridor in Dane County, Wisconsin generally between Interstate 39/90 east of the City of Stoughton and U.S. 12/18 (Madison South Beltline Highway) will not be completed. Any future transportation improvements along the U.S. 51 corridor will progress under a separate environmental review process in accordance with all applicable laws and regulations.

Issued on: December 8, 2016.
Anna Varney,
Major Projects Engineer, Federal Highway Administration, Madison, Wisconsin.

[FR Doc. 2016-30379 Filed 12-16-16; 8:45 am]

BILLING CODE 4910-22-P